Proclamation 9419 of April 8, 2016

National Volunteer Week, 2016

By the President of the United States of America

A Proclamation

Each day, humble people of every background and belief come together to fulfill the timeless responsibility we have as Americans: to accept certain obligations to one another. People of all ages can volunteer, and anyone can, through the smallest of acts, do their part to improve the lives of others. This week, we celebrate the selfless individuals around our country who channel their civic virtues through volunteerism, and we encourage more people to make service an integral part of their lives.

In National Parks and public schools, food pantries and animal shelters, volunteers fan out in communities across America, devoted to a cause bigger than themselves. In crisis and disaster, they offer not only goods and resources, but also understanding and sympathy to those desperate and distraught. In underserved neighborhoods, they help cultivate hope and inspiration, rolling back poverty and roadblocks to opportunity. Generations of these often unsung heroes—driven by their conviction that we all have a stake in each other—have lifted up those they know and those they do not, making our Nation and our world a better place.

My Administration is dedicated to giving people more opportunities to serve. I established a Task Force on Expanding National Service that supports the expansion of service and volunteer projects to address some of our Nation's highest priorities. Through the Corporation for National and Community Service, AmeriCorps and Senior Corps have mobilized millions of Americans, sending them to areas in need of dedicated volunteers. Under these programs, we have established campaigns that address specific needs in vulnerable communities, such as increasing access to college, improving STEM education, and preserving our environment. I have also called on 200,000 Federal scientists and engineers to help mentor young people in STEM fields. And in 2014, I launched the Employers of National Service initiative, connecting employers with AmeriCorps and Peace Corps alumni—because often the most talented, tireless, and mission-driven employees are those who have given of themselves for the betterment of others. In the time since, hundreds of employers have signed up to participate in this program.

Volunteers help drive our country's progress, and day in and day out, they make extraordinary sacrifices to expand promise and possibility. During National Volunteer Week, let us shed the cynicism that says one person cannot make a difference in the lives of others by embracing each of our individual responsibilities to serve and shape a brighter future for all.

NOW, THEREFORE, I, BARACK OBAMA, President of the United States of America, by virtue of the authority vested in me by the Constitution and the laws of the United States, do hereby proclaim April 10 through April 16, 2016, as National Volunteer Week. I call upon all Americans to observe this week by volunteering in service projects across our country and pledging to make service a part of their daily lives. To find a service opportunity nearby, visit www.Serve.gov.

IN WITNESS WHEREOF, I have hereunto set my hand this eighth day of April, in the year of our Lord two thousand sixteen, and of the Independence of the United States of America the two hundred and fortieth.

[FR Doc. 2016-08703

Filed 4-12-16; 11:15 am]

Billing code 3295-F6-P